DEPARTMENT OF ENERGY

Federal Energy Regulatory Commission

Combined Notice of Filings #1

Take notice that the Commission received the following electric rate filings:

Docket Numbers: ER10-2126-005.

Applicants: Idaho Power Company.

Description: Supplement to June 21, 2019 Updated Market Power Analysis for the Northwest Region of Idaho Power Company.

Filed Date: 8/6/19.

Accession Number: 20190806-5165.

Comments Due: 5 p.m. ET 8/27/19.

Docket Numbers: ER10-2575-009.

Applicants: Watson Cogeneration Company.

Description: Supplement to June 28, 2019 Updated Market Power Analysis (Exhibits A & B, Watson Screens, Appendix B) of Watson Cogeneration Company.

Filed Date: 7/8/19.

Accession Number: 20190708-5147.

Comments Due: 5 p.m. ET 7/29/19.

Docket Numbers: ER10-2575-010.

Applicants: Watson Cogeneration Company.

Description: Supplement to June 28, 2019 Notification of Change in Status (Watson Screens) of Watson Cogeneration Company.

Filed Date: 7/8/19.

Accession Number: 20190708-5148.

Comments Due: 5 p.m. ET 7/29/19.

Docket Numbers: ER13-1865-003.

Applicants: Tesoro Refining & Marketing Company LLC.

Description: Supplement to June 28, 2019 Updated Market Power Analysis (Exhibits A & B, TRMC Screens) of Tesoro Refining & Marketing Company LLC.

Filed Date: 7/8/19.

Accession Number: 20190708-5153.

Comments Due: 5 p.m. ET 7/29/19.

Docket Numbers: ER13-1865-004.

Applicants: Tesoro Refining & Marketing Company LLC.

Description: Supplement to June 28, 2019 Notification of Change in Status (TRMC Screens) of Tesoro Refining & Marketing Company LLC.

Filed Date: 7/8/19.

Accession Number: 20190708-5146.

Comments Due: 5 p.m. ET 7/29/19.

Docket Numbers: ER19-192-001.

Applicants: Great Plains Windpark Legacy, LLC.

Description: Notice of Non-Material Change in Status of Great Plains Windpark Legacy, LLC.

Filed Date: 8/7/19.

Accession Number: 20190807-5143.

Comments Due: 5 p.m. ET 8/28/19.

Docket Numbers: ER19-2265-000.

Applicants: TransCanada Energy Sales Ltd.

Description: Supplement to June 26, 2019 TransCanada Energy Sales Ltd. tariff filing.

Filed Date: 8/8/19.

Accession Number: 20190808-5092.

Comments Due: 5 p.m. ET 8/29/19.

Docket Numbers: ER19-2543-000.

Applicants: New York Independent System Operator, Inc., Central Hudson Gas & Electric Corporation, Niagara Mohawk Power Corporation.

Description: § 205(d) Rate Filing: EPC Agreement (SA 2449) re: NYISO, NMPC, Central Hudson, et al to be effective 6/28/2019.

Filed Date: 8/7/19.

Accession Number: 20190807-5088.

Comments Due: 5 p.m. ET 8/28/19.

Docket Numbers: ER19-2544-000.

Applicants: PacifiCorp.

Description: § 205(d) Rate Filing: BPA AC Intertie Agreement 15th Revised to be effective 10/27/2019.

Filed Date: 8/7/19.

Accession Number: 20190807-5102.

Comments Due: 5 p.m. ET 8/28/19.

Docket Numbers: ER19-2545-000.

Applicants: PJM Interconnection, L.L.C.

Description: § 205(d) Rate Filing: Original ISA, SA No. 5448; Queue No. AD2-070 to be effective 7/9/2019.

Filed Date: 8/7/19.

Accession Number: 20190807-5122.

Comments Due: 5 p.m. ET 8/28/19.

Docket Numbers: ER19-2546-000.

Applicants: Tuscola Wind II, LLC.

Description: Baseline eTariff Filing: Reactive Power Compensation Filing to be effective 9/29/2019.

Filed Date: 8/8/19.

Accession Number: 20190808-5000.

Comments Due: 5 p.m. ET 8/29/19.

Docket Numbers: ER19-2547-000.

Applicants: Pheasant Run Wind, LLC.

Description: Baseline eTariff Filing: Pheasant Run Reactive Power Compensation Re-Filing to be effective 9/29/2019.

Filed Date: 8/8/19.

Accession Number: 20190808-5002.

Comments Due: 5 p.m. ET 8/29/19.

Docket Numbers: ER19-2548-000.

Applicants: Southwest Power Pool, Inc.

Description: § 205(d) Rate Filing: 3558 WAPA, MDU & MISO Interconnection Agreement to be effective 12/31/9998.

Filed Date: 8/8/19.

Accession Number: 20190808-5005.

Comments Due: 5 p.m. ET 8/29/19.

Docket Numbers: ER19-2549-000.

Applicants: NorthWestern Corporation.

Description: NorthWestern Corporation submits Average System Cost Filing for Sales of Electric Power to the Bonneville Power Administration, FY 2020-2021.

Filed Date: 8/8/19.

Accession Number: 20190808-5017.

Comments Due: 5 p.m. ET 8/29/19.

Docket Numbers: ER19-2550-000.

Applicants: Midcontinent Independent System Operator, Inc.

Description: § 205(d) Rate Filing: 2019-08-08_SA 3313 WAPA-MDU Interconnection Agreement to be effective 12/31/9998.

Filed Date: 8/8/19.

Accession Number: 20190808-5019.

Comments Due: 5 p.m. ET 8/29/19.

Docket Numbers: ER19-2551-000.

Applicants: Beech Ridge Energy LLC.

Description: § 205(d) Rate Filing: Amended Assignment, Co-Tenancy, and Shared Facilities Agreement to be effective 10/8/2019.

Filed Date: 8/8/19.

Accession Number: 20190808-5055.

Comments Due: 5 p.m. ET 8/29/19.

Docket Numbers: ER19-2552-000.

Applicants: Beech Ridge Energy II LLC.

Description: § 205(d) Rate Filing: Amended Assignment, Co-Tenancy, and Shared Facilities Agreement to be effective 10/8/2019.

Filed Date: 8/8/19.

Accession Number: 20190808-5056.

Comments Due: 5 p.m. ET 8/29/19.

Docket Numbers: ER19-2553-000.

Applicants: Beech Ridge Energy Storage LLC.

Description: § 205(d) Rate Filing: Amended Assignment, Co-Tenancy, and Shared Facilities Agreement to be effective 10/8/2019.

Filed Date: 8/8/19.

Accession Number: 20190808-5057.

Comments Due: 5 p.m. ET 8/29/19.

Docket Numbers: ER19-2554-000.

Applicants: Alabama Power Company.

Description: § 205(d) Rate Filing: Randolph County Solar LGIA Amendment Filing to be effective 5/3/2019.

Filed Date: 8/8/19.

Accession Number: 20190808-5061.

Comments Due: 5 p.m. ET 8/29/19.

Docket Numbers: ER19-2555-000.

Applicants: New York Independent System Operator, Inc.

Description: § 205(d) Rate Filing: Implementation Agreement (SA 2474) re: Fuel Oil NYISO & Astoria Generating to be effective 10/8/2019.

Filed Date: 8/8/19.

Accession Number: 20190808-5068.

Comments Due: 5 p.m. ET 8/29/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 8, 2019.
Kimberly D. Bose,
Secretary.

[FR Doc. 2019-17397 Filed 8-13-19; 8:45 am]

BILLING CODE 6717-01-P